DEPARTMENT OF LABOR

Employment and Training Administration

[TA-W-54,061; TA-W-54,061I]

Eastern Pulp and Paper Co., Inc., Lincoln Pulp and Paper Plant, Lincoln, ME, Including Employees of Eastern Pulp and Paper Co., Inc., Lincoln Pulp and Paper Plant Operating at Various Locations in the State of New York: Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on January 30, 2004, applicable to workers of Eastern Pulp and Paper Co., Inc., Lincoln Pulp and Paper Plant, Lincoln, Maine. The notice was published in the Federal Register on February 6, 2004 (69 FR 5868).

At the request of the State agency, the Department reviewed the certification for workers of the subject firm. New information shows that worker separations have occurred involving employees of the Lincoln, Maine location of the subject firm operating at various locations in the state of New York. These employees provide administrative, sales and marketing support function services for the production of paper, tissue paper and wood pulp produced at the Lincoln, Maine location of the subject firm.

Based on these findings, the Department is amending this certification to include employees of the of the Lincoln, Maine location of Eastern Pulp and Paper Co., Inc. operating at various locations in the state of New York.

The intent of the Department's certification is to include all workers of Eastern Pulp and Paper Co., Inc., Lincoln Pulp and Paper Plant who were adversely affected by increased imports.

The amended notice applicable to TA-W-54,061 is hereby issued as follows:

All workers of Eastern Pulp and Paper Co., Inc., Lincoln Pulp and Paper Plant, Lincoln, Maine (TA-W-54,061), including employees of Eastern Pulp and Paper Co., Inc., Lincoln Pulp and Paper Plant, Lincoln, Maine operating at various locations in the state of New York (TA-W-54,0616I), who became totally or partially separated from employment on or after January 16, 2003, through January 30, 2006, are eligible to apply for adjustment assistance under section 223 of the Trade Act of 1974, and are also eligible to apply for alternative trade adjustment assistance under section 246 of the Trade Act of 1974.

Signed at Washington, DC, this 30th day of April, 2004.
Linda G. Poole,
Certifying Officer, Division of Trade Adjustment Assistance.

[FR Doc. 04-12384 Filed 6-1-04; 8:45 am]

BILLING CODE 4510-30-P